ENVIRONMENTAL PROTECTION AGENCY

40 CFR Part 300

[FRL-7945-8]

National Oil and Hazardous Substances Pollution Contingency Plan; National Priorities List

AGENCY: Environmental Protection Agency.

ACTION: Notice of intent to delete the North Sea Municipal Landfill Superfund Site from the National Priorities List.

SUMMARY: The Environmental Protection Agency (EPA) Region 2 is issuing this notice of intent to delete the North Sea Municipal Landfill Superfund Site (Site), located in Southampton, New York from the National Priorities List (NPL) and requests public comment on this action. The NPL is Appendix B of the National Oil and Hazardous Substances Pollution Contingency Plan (NCP), 40 CFR part 300, which EPA promulgated pursuant to Section 105 of the Comprehensive Environmental Response, Compensation, and Liability Act (CERCLA) of 1980, as amended. The EPA and the New York State Department of Environmental Conservation, have determined that responsible parties have implemented all appropriate response actions required. In the “Rules and Regulations” Section of today's Federal Register, we are publishing a direct final deletion of the North Sea Municipal Landfill Superfund Site without prior notice of this action because we view this as a noncontroversial revision and anticipate no significant adverse comment. We have explained our reasons for this deletion in the preamble to the direct final deletion. If we receive no significant adverse comment(s) on this notice of intent to delete or the direct final notice of deletion, we will not take further action on this notice of intent to delete. If we receive significant adverse comment(s), we will withdraw the direct final notice of deletion and it will not take effect. We will, as appropriate, address all public comments. If, after evaluating public comments, EPA decides to proceed with deletion, we will do so in a subsequent final deletion notice based on this notice of intent to delete. We will not institute a second comment period on this notice of intent to delete. Any parties interested in commenting must do so at this time. For additional information, see the direct final notice of deletion which is located in the Rules section of this Federal Register.

DATES: Comments concerning this Site must be received by August 29, 2005.

ADDRESSES: Written comments should be addressed to: Caroline Kwan, Remedial Project Manager, U.S. Environmental Protection Agency, Region II, 290 Broadway, 20th Floor, New York, New York 10007-1866.

FOR FURTHER INFORMATION CONTACT: Ms. Caroline Kwan, Remedial Project Manager, U.S. Environmental Protection Agency, 290 Broadway, 20th floor, New York, NY 10007-1866, (212) 637-4275; Fax Number (212) 637-4284; email address: kwan.caroline@epa.gov.

Information Repositories: Comprehensive information about the Site is available for viewing and copying at the Site information repositories located at: U.S. Environmental Protection Agency, Region 2, 290 Broadway, Superfund Record Center, Room 1828, New York, NY 10007-1866. Hours: Monday to Friday from 9 a.m. to 5 p.m., Telephone No. (212) 637-4308, Southampton College, Reference Department, 239 Montauk Highway, Southampton, New York 11968-4100, Hours: Monday to Friday till August 12, 2005 from 9 a.m. to 6 p.m., Closed from August 13 till September 5, reopening on September 6, Monday to Thursday from 10 a.m. to 9 p.m., Saturday: 12 p.m. to 5 p.m., Telephone No. 631-287-8379, The Rogers Memorial Library (Reference Department), 91 Coopers Farms Road, Southampton, New York 11968-4002, Hours: Monday to Thursday from 10 a.m. to 9 p.m., Friday: 10 a.m. to 7 p.m., Saturday: 10 a.m. to 5 p.m., Sunday: 1 p.m. to 5 p.m., Telephone No. (632) 283-0774.

SUPPLEMENTARY INFORMATION: For additional information, see the Direct Final Deletion which is located in the Rules section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9675; E.O. 12777, 56 FR 54757, 3 CFR, 1991 Comp., p. 351; E.O. 12580, 52 FR 2923, 3 CFR, 1987 Comp., p. 193.

Dated: July 22, 2005.
George Pavlou,
Acting Regional Administrator, USEPA, Region 2.

[FR Doc. 05-15043 Filed 7-28-05; 8:45 am]

BILLING CODE 6560-50-P